ENVIRONMENTAL PROTECTION AGENCY

40 CFR Part 300

[FRL-7586-7]

National Oil and Hazardous Substances Pollution Contingency Plan; National Priorities List

AGENCY: Environmental Protection Agency.

ACTION: Proposed notice of intent to delete the Follansbee Superfund Site from the National Priorities List.

SUMMARY: The Environmental Protection Agency (EPA) Region III is issuing a notice of intent to delete the Follansbee Superfund Site (Site), Follansbee, WV, from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA and the State of West Virginia, through the Department of Environmental Protection, have determined that all appropriate response actions under CERCLA have been completed. However, this deletion does not preclude future actions under Superfund.

In the “Rules and Regulations” section of today's Federal Register, we are publishing a direct final notice of deletion of the Follansbee Superfund Site without prior notice of intent to delete because we view this as a noncontroversial revision and anticipate no adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules section of this Federal Register.

DATES: Comments concerning this Site must be received by December 17, 2003.

ADDRESSES: Written comments should be addressed to: David Polish, Community Involvement Coordinator, U.S. EPA 3HS43, 1650 Arch Street, Philadelphia, PA 19103-2029, polish.david@epa.gov, (215) 814-3227.

Information Repositories: Repositories have been established to provide detailed information concerning this decision at the following locations: U.S. EPA Region III, Regional Center for Environmental Information (RCEI), 1650 Arch Street, Philadelphia, PA 19103-2029, (215) 814-5364, Monday through Friday 8 a.m. to 4:30 p.m. Follansbee City Library, 844 Main Street, Follansbee, WV 26037, (304) 527-0860, Monday through Thursday 11 a.m. to 7 p.m., Friday and Saturday 9 a.m. to 1 p.m.

FOR FURTHER INFORMATION CONTACT: Anthony C. Iacobone, Remedial Project Manager, U.S. EPA 3HS23, 1650 Arch Street, Philadelphia, PA 19103-2029, iacobone.anthony@epa.gov, (215) 814-5237.

SUPPLEMENTARY INFORMATION: For additional information, see the Direct Final Notice of Deletion which is located in the Rules section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Thomas Voltaggio,
Acting Regional Administrator, Region III.

[FR Doc. 03-28575 Filed 11-14-03; 8:45 am]

BILLING CODE 6560-50-P